DEPARTMENT OF ENERGY

Federal Energy Regulatory Commission

[Docket Nos. EL04-134-005; EL05-15-007]

Entergy Texas Arkansas; Notice of Filing

August 14, 2006.

On June 27, 2006, East Texas Electric Cooperative, Inc. and Entergy Arkansas, Inc. (EAI) filed a settlement agreement in the above proceeding, resolving issues in dispute relating to EAI's Refund Report originally filed on January 23, 2006. By this notice, comments on the settlement agreement should be filed on or before August 28, 2006.

Magalie R. Salas,
Secretary.

[FR Doc. E6-13628 Filed 8-17-06; 8:45 am]

BILLING CODE 6717-01-P